DEPARTMENT OF DEFENSE

Department of the Army

Notice of Availability of the Draft Programmatic Environmental Impact Statement (PEIS) for the Brigade Combat Team Transformation at Fort Irwin, CA

AGENCY: Department of the Army, DoD.

ACTION: Notice of Availability (NOA).

SUMMARY: The Fort Irwin National Training Center announces the availability of a Draft PEIS for mission realignment in support of Army Transformation, the Army Campaign Plan, and other Army initiatives. Pursuant to the National Environmental Policy Act (NEPA), the Department of the Army has prepared a PEIS to disclose potential impacts to the natural, physical, and human environment resulting from Army transformation efforts at Fort Irwin. Potential impacts from alternatives that are capable of meeting the Army's training, operations, and quality of life requirements have been analyzed. After reviewing a full range of possible alternative transformation options, the Army has selected Alternative 4 (increase of approximately 5,000 Soldiers and training rotation capacity increased to 12) as the preferred alternative for Army transformation.

DATES: The public comment period for the Draft PEIS will end 45 days after publication of an NOA in the Federal Register by the U.S. Environmental Protection Agency.

ADDRESSES: Copies of the Draft PEIS are available at the Directorate of Public Affairs. Send all written comments concerning this PEIS to: Mr. Muhammad Ban, U.S. Army National Training Center, Attn: IMWE-IRW-PWE, PO Box 105085, Fort Irwin, CA 92310-5085.

FOR FURTHER INFORMATION CONTACT: Mr. Muhammad Ban at (760) 380-3410, facsimile: (760) 380-2677, e-mail: Muhammad.ban@us.army.mil.

SUPPLEMENTARY INFORMATION: This Draft PEIS assesses the environmental impacts associated with the stationing and training of new Soldiers at Fort Irwin. In October 1999, the senior leadership of the Army expressed a new vision regarding future readiness, force structure, personnel and transformation of the Army to meet the challenges and demands of the 21st century. In December 2000, the Army proposed to undertake a synchronized program as stated in the Army Transformation Campaign Plan to transform the existing force structure (from a “division-based” force to a modular “brigade-based” force) in three phases over a 30-year period as described in the PEIS for Army Transformation. A Record of Decision for that PEIS was signed in April 2002 to proceed with the 30-year phased implementation of Army Transformation.

The Army leadership determined that the 11th Armored Cavalry Regiment (ACR) should transform over a period of several years to become a MultiComponent Heavy Brigade Combat Team (HBCT), deployable throughout the world. Other smaller units would also be stationed at Fort Irwin. Training rotations would increase and additional new Soldiers would be stationed at Fort Irwin. Additional cantonment and range construction would be necessary to support the increase in rotations and troops.

This Draft PEIS examines several alternatives for implementation of Army transformation at Fort Irwin. The PEIS will provide the Army senior leadership with a hard look at environmental impacts associated with the Proposed Action and better inform their decision-making process for selecting the final HBCT transformation option. This PEIS effort will assist the Army in arriving at a decision that can accommodate the Brigade's training, operations, and quality of life requirements while meeting the strategic defense needs of the nation.

After reviewing the full range of potential Army transformation options, four alternatives have been identified by the Army as reasonable for meeting the Army's needs and screening criteria. Alternatives include: (1) Increase of approximately 690 Soldiers and add capability to increase training rotations from 10 to 11 per year; (2) increase of approximately 5,000 Soldiers and add capability to increase training rotations from 10 to 11 per year; (3) increase of approximately 690 Soldiers and add capability to increase training rotations from 10 to 12 per year; and (4) increase of approximately 5,000 Soldiers and add capability to increase training rotations from 10 to 12 per year. The alternatives also include construction of new facilities, an increase in installation operations, and an adjustment of institutional programs to support realigned units and organizations. The No Action Alternative is described and its environmental impacts fully assessed and considered.

Direct, indirect, and cumulative impacts of the alternatives have been considered in the Draft PEIS. The Draft PEIS identifies significant impacts of each of the four alternative HBCT transformation scenarios. Potential impacts of concern regarding transformation activities (not in priority order) are: water supply, air quality, land uses, utility system capacities, traffic increases, and increase in hazardous material usage and hazardous waste generation. Impacts from alternatives would result from new construction, additional rotations, and additional personnel. Significant impacts to resources would be direct and long term. The No Action Alternative provides the baseline conditions for comparison to the other action alternatives. Additional concerns or impacts may be identified as a result of comments received on this Draft PEIS.

Public comment meetings on the Draft PEIS will be held with exact dates and locations to be determined and published in the local news media, via public notices or mailings well in advance of the meetings.

Dated: June 27, 2008.
Addison D. Davis, IV,
Deputy Assistant Secretary of the Army (Environment, Safety and Occupational Health).

[FR Doc. E8-15185 Filed 7-7-08; 8:45 am]

BILLING CODE 3710-08-M